DEPARTMENT OF THE TREASURY

Internal Revenue Service

26 CFR Part 54

[TD 9166]

RIN 1545-AX84

DEPARTMENT OF LABOR

Employee Benefits Security Administration

29 CFR Part 2590

RIN 1210-AA54

DEPARTMENT OF HEALTH AND HUMAN SERVICES

Centers for Medicare & Medicaid Services

45 CFR Part 146

RIN 0938-AL43

Final Regulations for Health Coverage Portability for Group Health Plans and Group Health Insurance Issuers Under HIPAA Titles l & IV; Correction

AGENCIES: Internal Revenue Service, Department of the Treasury; Employee Benefits Security Administration, Department of Labor; Centers for Medicare & Medicaid Services, Department of Health and Human Services.

ACTION: Correcting amendment.

SUMMARY: This document corrects final regulations that were published in the Federal Register on December 30, 2004 (69 FR 78720) governing portability requirements for group health plans and issuers of health insurance coverage offered in connection with a group health plan.

DATES: These corrections are effective February 28, 2005.

FOR FURTHER INFORMATION CONTACT: Dave Mlawsky, Centers for Medicare & Medicaid Services (CMS), Department of Health and Human Services, at 1-877-267-2323 ext. 61565; Amy Turner, Employee Benefits Security Administration, Department of Labor, at (202) 693-8335 (not a toll-free number); or Russ Weinheimer, Internal Revenue Service, Department of the Treasury, at (202) 622-6080 (not a toll-free number).

SUPPLEMENTARY INFORMATION:

Background

The final regulations that are the subject of these corrections are under sections 9801, 9831, 9832, and 9833 of the Internal Revenue Code; sections 701, 731, 732, 733, and 734 of the Employee Retirement Income Security Act; and sections 2701, 2721, 2723, 2791, and 2792 of the Public Health Service Act.

Need for Correction

As published, the final regulation contains errors that may prove to be misleading and are in need of clarification.

List of Subjects

26 CFR Part 54

Excise taxes, Health care, Health insurance, Pensions, Reporting and recordkeeping requirements.

29 CFR Part 2590

Continuation coverage, Disclosure, Employee benefit plans, Group health plans, Health care, Health insurance, Medical child support, Reporting and recordkeeping requirements.

45 CFR Part 146

Health care, Health insurance, Reporting and recordkeeping requirements, and State regulation of health insurance.

Correction of Publication

Accordingly, 26 CFR part 54, 29 CFR part 2590 and 45 CFR part 146 are corrected by making the following correcting amendment:

PART 54—PENSION EXCISE TAXES

Paragraph 1. The authority citation for part 54 continues to read in part as follows:

Authority: 26 U.S.C. 7805 * * *

§ 54.9831-1 [Corrected]

1. Section 54.9831-1(c)(3)(iii)((B), the language “of which are for treatment of the eye.” is removed and the language “all of which are for treatment of the eye.” is added in its place.

PART 2590—RULES AND REGULATIONS FOR GROUP HEALTH PLANS

Paragraph 1. The authority citation for part 2590 continues to read as follows:

Authority: 29 U.S.C. 1027, 1059, 1135, 1161-1168, 1169, 1181-1183, 1181 note, 1185, 1185a, 1185b, 1191, 1191a, 1191b, and 1191c, sec. 101(g), Public Law 104-191, 101 Stat. 1936; sec. 401(b), Public Law 105-200, 112 Stat. 645 (42 U.S.C. 651 note); Secretary of Labor's Order 1-2003, 68 FR 5374 (Feb. 3, 2003).

§ 2590.731 [Corrected]

2. Section 2590.731(c)(2)(i), the language “ § 2590.701-3(a)(1)(i) (for purposes of” is removed and the language “§ 2590.701-3(a)(2)(i) (for purposes of” is added in its place.

3. Section 2590.731(c)(2)(ii), the language “and § 2590.701-3(a)(1)(ii) (for purposes” is removed and the language “§ 2590.701-3(a)(2)(ii) (for purposes” is added in its place.

4. Section 2590.731(c)(2)(iii), the language “the Act and §§ 2590.701-3(a)(1)(iii) and” is removed and the language “the Act and §§ 2590.701-3(a)(2)(iii) and” is added in its place.

PART 146—REQUIREMENTS FOR THE GROUP HEALTH INSURANCE MARKET

Paragraph 1. The authority citation for part 146 continues to read as follows:

Authority: Secs 2701 through 2763, 2791, and 2792, of the Public Health Service Act, 42 U.S.C. 300gg through 300gg-63, 300gg-91, 30gg-92 as amended by HIPAA (Pub. L. 104-191, 110 Stat. 1936), MHPA (Pub. L. 104-204, 110 Stat. 2944, as amended by Pub. L. 107-116, 115 Stat. 2177), NMHPA (Pub. L. 104-204, 110 Stat. 2935), WHCRA (Pub. L. 105-277, 112 Stat. 2681-436), and section 103(c)(4) of HIPAA.

§ 146.125 [Corrected]

5. Section 146.125, the language “Sections 146.111 through 146.119,” is removed and the language “Section 144.103, §§ 146.111 through 146.119,” is added in its place.

§ 146.143 [Corrected]

6. Section 146.143(b), the language “section 514 of the Act with respect to” is removed and the language “section 514 of ERISA with respect to” is added in its place.

7. Section 146.143(c)(2)(i), the language “§ 146.111(a)(1)(i) (for purposes of” is removed and the language “§ 146.111(a)(2)(i) (for purposes of” is added in its place.

8. Section 146.143(c)(2)(ii), the language “PHS Act and § 146.111(a)(1)(ii) (for” is removed and the language “PHS Act and § 146.111(a)(2)(ii) (for” is added in its place.

9. Section 146.143(c)(2)(iii), the language “the PHS Act and §§ 146.111(a)(1)(iii)” is removed and the language “the PHS Act and §§ 146.111(a)(2)(iii)” is added in its place.

Cynthia E. Grigsby,
Acting Chief, Publications and Regulations Branch Legal Processing Division, Associate Chief Counsel (Procedure and Administration), Internal Revenue Service, Department of the Treasury.

Dated this 16th day of March, 2005.
Ann Agnew,
Executive Secretary, Department of Health and Human Services.

Dated this 15th day of February, 2005.
Daniel J. Maguire,
Director, Office of Health Plan Standards and Compliance Assistance, Employee Benefits Security Administration, Department of Labor.

[FR Doc. 05-8154 Filed 4-22-05; 8:45 am]

BILLING CODE 4830-01-P; 4510-29-P; 4120-01-P